DEPARTMENT OF THE INTERIOR

National Park Service

[NPS-WASO-NAGPRA-NPS0037100; PPWOCRADN0-PCU00RP14.R50000]

Notice of Inventory Completion: New York University, College of Dentistry, New York, NY

AGENCY: National Park Service, Interior.

ACTION: Notice.

SUMMARY: In accordance with the Native American Graves Protection and Repatriation Act (NAGPRA), the New York University, College of Dentistry (NYU College of Dentistry) has completed an inventory of human remains and has determined that there is no cultural affiliation between the human remains and any Indian Tribe. The human remains were removed from Queens, Dutchess, and Bronx Counties, NY.

DATES: Disposition of the human remains in this notice may occur on or after January 18, 2024.

ADDRESSES: Joshua H. Johnson, NYU College of Dentistry, 345 East 24th Street, New York, NY 10010, telephone (646) 341-1016, email jj65@nyu.edu.

SUPPLEMENTARY INFORMATION: This notice is published as part of the National Park Service's administrative responsibilities under NAGPRA. The determinations in this notice are the sole responsibility of NYU College of Dentistry. The National Park Service is not responsible for the determinations in this notice. Additional information on the determinations in this notice, including the results of consultation, can be found in the inventory or related records held by NYU College of Dentistry.

Description

Human remains representing, at minimum, one individual were removed from Rockaway in Queens County, NY. The human remains of one individual were excavated at an unknown date by an unknown individual. The human remains have a label adhered to them that contains the number “999.” J. Carton Brevoost donated the human remains to the Museum of American Indian, and they were catalogued into the Department of Physical Anthropology at the Museum of American Indian in 1921. In 1956, the human remains were transferred to NYU College of Dentistry. No associated funerary objects are present.

Human remains representing, at minimum, one individual were removed from Burr Reynolds Farm in Poughquag, Long Island, Dutchess County, NY. The human remains of one individual were excavated at an unknown date by an unknown individual. No donor is listed. The human remains are not catalogued in the ledger of the Department of Physical Anthropology at the Museum of the American Indian, but a label with the object identifies the locality and states that the human remains were donated in the winter of 1940-1941. In 1956, the human remains were transferred to the NYU College of Dentistry. No associated funerary objects are present.

Human remains representing, at minimum, one individual were removed from Weir Creek Mound, Throgg's Neck, Bronx County, NY. The human remains were excavated at an unknown date by an unknown individual. E.O. Sugden donated the human remains to the Museum of American Indian, and they were catalogued into the Department of Physical Anthropology at the Museum of American Indian in 1920.

Aboriginal Land

The human remains in this notice were removed from known geographic locations. These locations are the aboriginal lands of one or more Indian Tribes. The following information was used to identify the aboriginal land: treaties and expert testimony.

Determinations

Pursuant to NAGPRA and its implementing regulations, and after consultation with the appropriate Indian Tribes, NYU College of Dentistry has determined that:

• The human remains described in this notice represent the physical remains of three individuals of Native American ancestry.

• No relationship of shared group identity can be reasonably traced between the human remains and associated funerary objects and any Indian Tribe.

• The human remains and associated funerary objects described in this notice were removed from the aboriginal land of the Delaware Nation, Oklahoma; Delaware Tribe of Indians; and the Stockbridge Munsee Community, Wisconsin.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after January 18, 2024. If competing requests for disposition are received, NYU College of Dentistry must determine the most appropriate requestor prior to disposition. Requests for joint disposition of the human remains are considered a single request and not competing requests. NYU College of Dentistry is responsible for sending a copy of this notice to the Indian Tribes identified in this notice.

Authority: Native American Graves Protection and Repatriation Act, 25 U.S.C. 3003, and the implementing regulations, 43 CFR 10.9 and § 10.11.

Dated: December 11, 2023.
Melanie O'Brien,
Manager, National NAGPRA Program.

[FR Doc. 2023-27803 Filed 12-18-23; 8:45 am]

BILLING CODE 4312-52-P